DEPARTMENT OF ENERGY

Federal Energy Regulatory Commission

[Docket No. CP11-40-000; CP10-34-000]

East Cheyenne Gas Storage, LLC; Notice of Intent To Prepare an Environmental Assessment for the East Cheyenne Gas Storage Project Well Plan Amendment and Request for Comments On Environmental Issues

December 13, 2010.

The staff of the Federal Energy Regulatory Commission (FERC or Commission) will prepare an environmental assessment (EA) that will discuss the environmental impacts of the Well Plan Amendment proposed by East Cheyenne Gas Storage, LLC (East Cheyenne). The proposed project would amend the East Cheyenne Gas Storage Project, authorized by the Commission on August 2, 2010 under Docket No. CP10-34-000, which consists of construction and operation of facilities in Logan County, Colorado. The proposed amendment primarily involves redeveloping a number of existing oil production wells in the West Peetz and Lewis Creek Fields to gas storage injection/withdrawal (I/W) wells. This EA will be used by the Commission in its decision-making process to determine whether the project amendment is in the public convenience and necessity.

This notice announces the opening of the scoping process the Commission will use to gather input from the public and interested agencies on the project amendment. Your input will help the Commission staff determine what issues need to be evaluated in the EA. Please note that the scoping period will close on January 13, 2011.

This notice is being sent to the Commission's current environmental mailing list for this project. State and local government representatives are asked to notify their constituents of this planned project amendment and encourage them to comment on their areas of concern.

A fact sheet prepared by the FERC entitled “An Interstate Natural Gas Facility On My Land? What Do I Need To Know?” was attached to the project notice East Cheyenne provided to landowners. This fact sheet addresses a number of typically-asked questions, including the use of eminent domain and how to participate in the Commission's proceedings. It is also available for viewing on the FERC Web site (http://www.ferc.gov).

Summary of the Proposed Project

The authorized East Cheyenne Gas Storage Project consists of construction and operation of a natural gas storage facility in two nearly depleted oil production fields in Logan County, Colorado. Prior to, and concurrent with development of the gas storage fields, East Cheyenne planned to do enhanced oil recovery (EOR) of petroleum reserves remaining in the storage fields. East Cheyenne's activities to date have included the conversion or plugging of existing wells in the West Peetz Field. The East Cheyenne Gas Storage Project is anticipated to have an initial working gas storage capacity of approximately 9.8 billion cubic feet (Bcf), which would increase to approximately 18.9 Bcf between 3 and 5 years after operation begins.

The proposed Well Plan Amendment consists of the following changes to the East Cheyenne Gas Storage Project:

• Conversion of 14 existing vertical oil production wells into natural gas storage I/W wells;

• Relocation of two of the certificated I/W wells, and the development of these wells as vertical wells rather than horizontal wells;

• Relocation of two of the originally certificated monitoring wells and the addition of three monitoring wells, using existing well pads and well bores;

• Reduction of the number of water disposal wells from four to three;

• Construction of additional gathering lines necessary to connect the additional and relocated wells;

• Conversion of 17 originally proposed and certificated temporary access roads to permanent access roads;

• Elimination of the temporary West Peetz Compressor Station; and

• Modification of the equipment to be used in the Process Facility to incorporate certain equipment previously included as part of the temporary West Peetz Compressor Station.

East Cheyenne proposes to amend its project because of recently acquired information about the existing conditions in the J Sands reservoir. As part of its EOR activities, East Cheyenne has reentered and evaluated the adequacy of previously plugged and abandoned wells and at the same time tested the characteristics of the reservoir. In response to new information, East Cheyenne undertook additional consultation and performed additional reservoir modeling. These consultations and modeling efforts suggest that the optimal method of commencing storage development and early storage operations will require an increased number of I/W wells and the conversion of horizontal wells to vertical wells.

The general location of the project facilities is shown in appendix 1.¹

¹ The appendices referenced in this notice are not being printed in the Federal Register. Copies of appendices were sent to all those receiving this notice in the mail and are available at http://www.ferc.gov using the link called “eLibrary” or from the Commission's Public Reference Room, 888 First Street, NE., Washington, DC 20426, or call (202) 502-8371. For instructions on connecting to eLibrary, refer to the last page of this notice.

Land Requirements for Construction

The approved East Cheyenne Gas Storage Project involved storing natural gas in nearly depleted reservoirs that underlie an area of approximately 2,360 acres, with an additional 3,400 acres serving as a storage buffer area. The additional proposed facilities would all be located in previously surveyed areas within the project site. Construction of the proposed facilities within that area would require in total approximately 485.84 acres of land; an increase of 89.33 acres from the original project total of 396.51 acres. Following construction, about 201.39 acres would be maintained within the permanent right-of-way; an increase of 50.61 acres from the original project total of 150.78 acres. The remaining 284.45 acres of land would be restored and allowed to revert to its former use.

The EA Process

The National Environmental Policy Act (NEPA) requires the Commission to take into account the environmental impacts that could result from an action whenever it considers the issuance of a Certificate of Public Convenience and Necessity. NEPA also requires us ² to discover and address concerns the public may have about proposals. This process is referred to as “scoping.” The main goal of the scoping process is to focus the analysis in the EA on the important environmental issues. By this notice, the Commission requests public comments on the scope of the issues to address in the EA. All comments received will be considered during the preparation of the EA.

² “We,” “us,” and “our” refer to the environmental staff of the Commission's Office of Energy Projects.

In the EA we will discuss impacts that could occur as a result of the construction and operation of the proposed project amendment under these general headings:

• Geology and soils;

• Land use;

• Water resources, fisheries, and wetlands;

• Cultural resources;

• Vegetation and wildlife;

• Air quality and noise;

• Endangered and threatened species; and

• Public safety.

We will also evaluate reasonable alternatives to the proposed project or portions of the project amendment, and make recommendations on how to lessen or avoid impacts on the various resource areas.

Our independent analysis of the issues will be presented in the EA. The EA will be placed in the public record and, depending on the comments received during the scoping process, may be published and distributed to the public. A comment period will be allotted if the EA is published for review. We will consider all comments on the EA before we make our recommendations to the Commission. To ensure your comments are considered, please carefully follow the instructions in the Public Participation section below.

With this notice, we are asking agencies with jurisdiction and/or special expertise with respect to environmental issues to formally cooperate with us in the preparation of the EA. These agencies may choose to participate once they have evaluated the proposal relative to their responsibilities. Agencies that would like to request cooperating agency status should follow the instructions for filing comments provided under the Public Participation section of this notice.

Public Participation

You can make a difference by providing us with your specific comments or concerns about the project amendment. Your comments should focus on the potential environmental effects, reasonable alternatives, and measures to avoid or lessen environmental impacts. The more specific your comments, the more useful they will be. To ensure that your comments are timely and properly recorded, please send your comments so that they will be received in Washington, DC on or before January 13, 2011.

For your convenience, there are three methods which you can use to submit your comments to the Commission. In all instances please reference the project docket number (CP11-40-000) with your submission. The Commission encourages electronic filing of comments and has expert eFiling staff available to assist you at (202) 502-8258 or efiling@ferc.gov.

(1) You may file your comments electronically by using the eComment feature, which is located on the Commission's Web site at http://www.ferc.gov under the link to Documents and Filings. An eComment is an easy method for interested persons to submit brief, text-only comments on a project;

(2) You may file your comments electronically by using the eFiling feature, which is located on the Commission's Web site at http://www.ferc.gov under the link to Documents and Filings. With eFiling you can provide comments in a variety of formats by attaching them as a file with your submission. New eFiling users must first create an account by clicking on “eRegister.” You will be asked to select the type of filing you are making. A comment on a particular project is considered a “Comment on a Filing”; or

(3) You may file a paper copy of your comments at the following address: Kimberly D. Bose, Secretary, Federal Energy Regulatory Commission, 888 First Street, NE., Room 1A, Washington, DC 20426.

Environmental Mailing List

The environmental mailing list includes federal, state, and local government representatives and agencies; elected officials; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the proposed project.

If the EA is published for distribution, copies will be sent to the environmental mailing list for public review and comment.

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are included in the User's Guide under the “e-filing” link on the Commission's website.

Additional Information

Additional information about the project is available from the Commission's Office of External Affairs, at (866) 208-FERC, or on the FERC Web site at http://www.ferc.gov using the “eLibrary” link. Click on the eLibrary link, click on “General Search” and enter the docket number, excluding the last three digits in the Docket Number field (i.e., CP11-40). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to http://www.ferc.gov/esubscribenow.htm.

Finally, public meetings or site visits will be posted on the Commission's calendar located at http://www.ferc.gov/EventCalendar/EventsList.aspx along with other related information.

Kimberly D. Bose,
Secretary.

[FR Doc. 2010-31707 Filed 12-16-10; 8:45 am]

BILLING CODE 6717-01-P